DEPARTMENT OF HOMELAND SECURITY

Coast Guard

33 CFR Part 165

[Docket No. USCG-2019-0315]

Safety Zone; Lower Mississippi River, New Orleans, LA

AGENCY: Coast Guard, DHS.

ACTION: Notice of enforcement of regulation.

SUMMARY: The Coast Guard will enforce a temporary safety zone for a fireworks display located on the navigable waters of the Lower Mississippi River between Mile Marker (MM) 94.3 and MM 95.3. This action is needed to provide for the safety of life on these navigable waterways during this event. During the enforcement period, the operator of any vessel in the safety zone must comply with directions from the Captain of the Port Sector New Orleans or a designated representative.

DATES: The regulations in 33 CFR 165.801, Table 5, Line 3 will be enforced from 8:30 p.m. through 9:30 p.m. on July 4, 2019.

FOR FURTHER INFORMATION CONTACT: If you have questions about this notice of enforcement, call or email Lieutenant Commander Benjamin Morgan, Sector New Orleans, U.S. Coast Guard; telephone 504-365-2281, email Benjamin.P.Morgan@uscg.mil.

SUPPLEMENTARY INFORMATION: The Coast Guard will enforce a temporary safety zone in 33 CFR 165.801, Table 5, line 3, for the Riverfront Marketing Group Independence Day celebration fireworks display event. This regulation will be enforced from 8:30 p.m. through 9:30 p.m. on July 4, 2019. This action is needed to provide for the safety of life on these navigable waterways during this event. Our regulation for marine events within the Eighth Coast Guard District, 33 CFR 165.801, specifies the location of the regulated area on the Lower Mississippi River, between Mile Marker (MM) 94.3 and MM 95.3. During the enforcement period, as reflected in § 165.801, if you are the operator of a vessel in the temporary safety zone, you must comply with directions from the Captain of the Port Sector New Orleans or a designated representative.

In addition to this notice of enforcement in the Federal Register, the Coast Guard plans to provide notification of this enforcement period via a Broadcast Notice to Mariners.

Dated: June 17, 2019.
W.E. Watson,
Captain, U.S. Coast Guard, Acting Captain of the Port Sector New Orleans.

[FR Doc. 2019-13206 Filed 6-20-19; 8:45 am]

BILLING CODE 9110-04-P